NATIONAL ARCHIVES AND RECORDS ADMINISTRATION

[NARA-2018-040]

Advisory Committee on the Records of Congress

AGENCY: National Archives and Records Administration.

ACTION: Notice of Advisory Committee meeting.

SUMMARY: The National Archives and Records Administration (NARA) announces a meeting of the Advisory Committee on the Records of Congress. The committee advises NARA on the full range of programs, policies, and plans for the Center for Legislative Archives within NARA's Office of Legislative Archives, Presidential Libraries, and Museum Services (LPM).

DATES: The meeting will be held on June 18, 2018 from 10:00 a.m. to 11:30 a.m.

ADDRESSES: The Capitol Visitor Center, Congressional Meeting Room South.

FOR FURTHER INFORMATION CONTACT: Center for Legislative Archives (202) 357-5350 Sharon Shaver, sharon.shaver@nara.gov.

SUPPLEMENTARY INFORMATION: The meeting is open to the public. NARA announces advisory committee meetings in accordance with the Federal Advisory Committee Act (5 U.S.C. app 2). Due to unavoidable schedule conflicts and room limitations, this announcement is publishing with fewer than 15 days' notice of the meeting.

Agenda

(1) Chair's opening remarks—Clerk of the U.S. House of Representatives

(2) Recognition of co-chair—Secretary of the U.S. Senate

(3) Recognition of the Archivist of the United States

(4) Approval of the minutes of the last meeting

(5) House Archivist's report

(6) Senate Archivist's report

(7) Center for Legislative Archives update

(8) Other current issues and new business

Patrice Murray,
Alternate Committee Management Officer.

[FR Doc. 2018-12791 Filed 6-13-18; 8:45 am]

BILLING CODE 7515-01-P